DEPARTMENT OF ENERGY

Federal Energy Regulatory Commission

[Docket No. CP09-417-000]

Transcontinental Gas Pipe Line Company, LLC; Notice of Application

May 29, 2009.

Take notice that on May 22, 2009, Transcontinental Gas Pipe Line Company, LLC (Transco), Post Office Box 1396, Houston, Texas 77251, filed with the Federal Energy Regulatory Commission (Commission) an abbreviated application pursuant to section 7(c) of the Natural Gas Act (NGA), as amended, and part 157 of the Commission's regulations for authorization to acquire and convert to natural gas use an existing pipeline and to construct and operate certain pipeline facilities that would enable Transco to provide 250,000 dekatherms per day of natural gas transportation service to the Hess Corporation (“Hess”) and Bayonne Energy Center, LLC (BEC). The proposed facilities, identified as the Bayonne Delivery Lateral Project, would extend from Transco's mainline in Essex County, New Jersey to the proposed Bayonne Energy Center, an electric power plant in Bayonne, Hudson County, New Jersey.

Specifically, Transco seeks authority to: construct approximately 0.83 mile of 20-inch pipeline and appurtenant facilities to connect Transco's mainline to an idle, 14-inch petroleum products pipeline owned by Hess; acquire from Hess and convert to natural gas use 5.41 miles of the 14-inch petroleum products pipeline extending from the terminus of the new 20-inch pipeline to the Bayonne Energy Center; construct a new delivery meter station and appurtenant facilities at the Bayonne Energy Center and, operate the facilities as the Bayonne Delivery Lateral.

Transco estimates that the Bayonne Delivery Lateral Project facilities will cost approximately $17.2 million. Firm transportation service would be offered pursuant to a new proposed Rate Schedule FDLS and Transco's blanket certificate under Part 284(G) of the Commission's regulations.

Any questions concerning this application should be directed to Marg Camardello, Manager, Tariffs & Certificates, P.O. Box 1396, Houston, Texas 77251, (713) 215-3380 (phone). Information can also be requested via a toll free number at (866) 455-9103 or via e-mail at PipelineExpansion@williams.com. (toll free).

Pursuant to section 157.9 of the Commission's rules, 18 CFR 157.9, within 90 days of this Notice the Commission staff will either complete its environmental assessment (EA) and place it into the Commission's public record (eLibrary) for this proceeding; or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule for Environmental Review will serve to notify federal and state agencies of the timing for the completion of all necessary reviews, and the subsequent need to complete all federal authorizations within 90 days of the date of issuance of the Commission staff's FEIS or EA.

This filing is available for review at the Commission in the Public Reference Room or may be viewed on the Commission's Web site at http://www.ferc.gov using the “e-Library” link. Enter the docket number excluding the last three digits in the docket number field to access the document. For assistance, contact FERC at FERCOnlineSupport@ferc.gov or call toll-free, (866) 208-3676, or for TTY, (202) 502-8659.

There are two ways to become involved in the Commission's review of this project. First, any person wishing to obtain legal status by becoming a party to the proceedings for this project should, on or before the comment date stated below file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made in the proceeding with the Commission and must mail a copy to the applicant and to every other party. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

Protests and interventions may be filed electronically via the Internet in lieu of paper; see, 18 CFR 385.2001(a)(1)(iii) and the instructions on the Commission's Web site under the “e-Filing” link. The Commission strongly encourages electronic filings.

Comment Date: June 19, 2009.

Kimberly D. Bose,
Secretary.

[FR Doc. E9-13223 Filed 6-5-09; 8:45 am]

BILLING CODE P